DEPARTMENT OF TRANSPORTATION

49 CFR Parts 1 and 89

[Docket No. DOT-OST-1999-6189]

RIN 9991-AA53

Organization and Delegation of Powers and Duties; Assistant Secretary for Budget and Programs

AGENCY: Office of the Secretary of Transportation.

ACTION: Final rule.

SUMMARY: This amendment delegates debt collection, compromise, suspension and termination authority under 31 U.S.C. 3711 (except with respect to Working Capital Fund claims) from the Secretary of Transportation (Secretary) to the Assistant Secretary for Budget and Programs by removing that authority from the Assistant Secretary for Administration and granting it to the Assistant Secretary for Budget and Programs. In addition, this rulemaking removes a reporting requirement related to the delegation.

DATES: This final rule is effective on October 2, 2008.

FOR FURTHER INFORMATION CONTACT: Beth Kramer, Office of General Counsel, 1200 New Jersey Avenue, SE., Room W96-491, Washington, DC 20590, Telephone: (202) 366-0365.

SUPPLEMENTARY INFORMATION: Title 49 of the Code of Federal Regulations (CFR) 1.59(c)6) and 89.5(a) delegate to the Assistant Secretary for Administration the Secretary's authority under 31 U.S.C. 3711 to collect, compromise, suspend or end collection action on claims of the United States not exceeding $100,000 (excluding interest) arising out of the activities of, or referred to, the Office of the Secretary. The Secretary has determined that such authority (excluding authority to collect, compromise, suspend or end collection action on claims pertaining to the Working Capital Fund) should be delegated to the Assistant Secretary for Budget and Programs instead of the Assistant Secretary for Administration. This rulemaking makes the following changes to reflect the change in delegation:

• Adds “debt and” to 49 CFR 1.23(f);

• Adds a new paragraph (j) to 49 CFR 1.58;

• Adds language regarding the Working Capital Fund exclusion to 49 CFR 1.59(c)(6);

• Adds language regarding claims related to the Working Capital Fund to 49 CFR 89.5(a), renumbers subsection § 89.5(b) as § 89.5(c), and adds a new provision at § 89.5(b); and

• Removes “, reports,” from the heading of § 89.15, adds “and the Assistant Secretary for Budget and Programs” to § 89.15(b)(1), removes § 89.15(b)(2), and renumbers paragraph (b)(3) as (b)(2).

Since this amendment relates to departmental management, organization, procedure, and practice, notice and comment are unnecessary under 5 U.S.C. 553(b). Further, since the amendment expedites the Department's ability to meet the statutory intent of the applicable laws and regulations covered by this delegation, the Secretary finds good cause under 5 U.S.C. 553(d)(3) for the final rule to be effective on the date of publication in the Federal Register.

Regulatory Analyses and Notices

A. Executive Order 12866 and DOT Regulatory Policies and Procedures

The final rule is not considered a significant regulatory action under Executive Order 12866 and DOT Regulatory Policies and Procedures (44 FR 11034). There are no costs associated with this rule.

B. Executive Order 13132

This final rule has been analyzed in accordance with the principles and criteria contained in Executive Order 13132 (“Federalism”). This final rule does not have a substantial direct effect on, or sufficient federalism implications for, the States, nor would it limit the policymaking discretion of the States. Therefore, the consultation requirements of Executive Order 13132 do not apply.

C. Executive Order 13175

This final rule has been analyzed in accordance with the principles and criteria contained in Executive Order 13175 (“Consultation and Coordination with Indian Tribal Governments”). Because this final rule does not significantly or uniquely affect the communities of the Indian tribal governments and does not impose substantial direct compliance costs, the funding and consultation requirements of Executive Order 13175 do not apply.

D. Regulatory Flexibility Act

Because no notice of proposed rulemaking is required for this rule under the Administrative Procedure Act, 5 U.S.C. 553, the provisions of the Regulatory Flexibility Act (5 U.S.C. 602 et seq.) do not apply. This rule imposes no costs on small entities because it simply delegates authority from one official to another. Therefore, it is certified that this final rule will not have a significant economic impact on a substantial number of small businesses.

E. Paperwork Reduction Act

This rule contains no information collection requirements under the Paperwork Reduction Act of 1995 (44 U.S.C. 3502-3520).

F. Unfunded Mandates Reform Act

The Department of Transportation has determined that the requirements of Title II of the Unfunded Mandates Reform Act of 1995 do not apply to this rulemaking.

List of Subjects

49 CFR Part 1

Authority delegations (Government agencies), Organization and functions (Government agencies).

49 CFR Part 89

Claims, Delegations of authority, Reports.

For the reasons set forth in the preamble, the Office of the Secretary of Transportation amends parts 1 and 89 as follows:

PART 1—[AMENDED]

1. The authority citation for part 1 continues to read as follows:

Authority: 49 U.S.C. 322; 28 U.S.C. 2672; 31 U.S.C. 3711(a)(2); Public Law 101-552, 104 Stat. 2736; Public Law 106-159, 113 Stat. 1748; Public Law 107-71, 115 Stat. 597; Public Law 107-295, 116 Stat. 2064; Public Law 107-295, 116 Stat. 2065; Public Law 107-296, 116 Stat. 2135; 41 U.S.C. 414; Public Law 108-426, 118 Stat. 2423; Public Law 109-59, 119 Stat. 1144; Public Law 110-140, 121 Stat. 1492.

2. In § 1.23, revise paragraph (f) to read as follows:

§ 1.23 Spheres of primary responsibility.

* * * * *

(f) Assistant Secretary for Budget and Programs. Preparation, review and presentation of Department budget estimates; liaison with OMB and Congressional Budget and Appropriations Committees; departmental financial plans, apportionments, reapportionments, reprogrammings, and allotments; program and systems evaluation and analysis; program evaluation criteria; program resource plans; analysis and review of legislative proposals and one-time reports and studies required by the Congress; budgetary and selected debt and administrative matters relating to the Office of the Secretary.

* * * * *

3. In § 1.58, add a new paragraph (j) to read as follows:

§ 1.58 Delegations to the Assistant Secretary for Budget and Programs.

* * * * *

(j) Exercise the Secretary's authority under 31 U.S.C. 3711 to collect, compromise, suspend collection action on, or terminate claims of the United States not exceeding $100,000 (excluding interest) which are referred to, or arise out of the activities of, the Office of the Secretary (excluding claims pertaining to the Working Capital Fund).

4. In § 1.59, revise paragraph (c)(6) to read as follows:.

§ 1.59 Delegations to the Assistant Secretary for Administration.

* * * * *

(c) * * *

(6) Compromise, suspend collection action on, or terminate claims of the United States not exceeding $100,000 (excluding interest) which are referred to, or arise out of the activities of, the Working Capital Fund.

* * * * *

PART 89—[AMENDED]

5. The authority citation for part 89 continues to read as follows:

Authority: Pub. L. 89-508; Pub. L. 89-365, secs. 3, 10, 11, 13(b), 31 U.S.C. 3701-3720A; Pub. L. 98-167; Pub. L. 98-369; Pub. L. 99-578; Pub. L. 101-552, 31 U.S.C. 3711(a)(2).

6. In § 89.5 revise paragraph (a), redesignate paragraph (b) as paragraph (c) and add a new paragraph (b) to read as follows:

§ 89.5 Delegations of Authority.

* * * * *

(a) The Assistant Secretary for Administration with respect to collection, compromise, suspension and termination of claims arising out of the activities of, or referred to, the Working Capital Fund;

(b) The Assistant Secretary for Budget and Programs with respect to collection, compromise, suspension and termination of collection of claims under 31 U.S.C. 3711 arising out of the activities of, or referred to, the Office of the Secretary (excluding claims pertaining to the Working Capital Fund); and

* * * * *

7. In § 89.15 revise the section heading, and paragraph (b) introductory text, remove paragraph (b)(2) and redesignate paragraph (b)(3) and (b)(2) to read as follows:

§ 89.15 Regulations and supporting documentation.

* * * * *

(b) Each officer to whom authority is delegated under 89.5 shall furnish the following information to the Assistant Secretary for Administration and the Assistant Secretary for Budget and Programs:

* * * * *

Mary E. Peters,
Secretary of Transportation.

[FR Doc. E8-22361 Filed 10-1-08; 8:45 am]

BILLING CODE 4910-9X-P